COMMITTEE FOR PURCHASE FROM PEOPLE WHO ARE BLIND OR SEVERELY DISABLED

Procurement List; Additions and Deletions

AGENCY: Committee for Purchase From People Who Are Blind or Severely Disabled.

ACTION: Deletions from the Procurement List.

SUMMARY: This action deletes product(s) from the Procurement List that were furnished by nonprofit agencies employing persons who are blind or have other severe disabilities.

DATES: Date added to and deleted from the Procurement List: January 26, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Deletions

On November 15, 2024 (89 FR 90270) and 11/22/2024 (89 FR 92657), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8415-01-546-0124—Shirt, Underwear, Midweight Cold Weather Gen III, ECWCS, Army, Desert Sand, X-Small/Short

8415-01-546-0128—Shirt, Underwear, Midweight Cold Weather Gen III, ECWCS, Army, Desert Sand, X-Small/Regular

8415-01-546-0160—Shirt, Underwear, Midweight Cold Weather Gen III, ECWCS, Army, Desert Sand, Small/Short

8415-01-538-8598—Shirt, Underwear, Midweight Cold Weather Gen III, ECWCS, Army, Desert Sand, Small/Regular

8415-01-546-0166—Shirt, Underwear, Midweight Cold Weather Gen III, ECWCS, Army, Desert Sand, Small/Long

8415-01-538-8614—Shirt, Underwear, Midweight Cold Weather Gen III, ECWCS, Army, Desert Sand, Medium/Regular

8415-01-546-0305—Shirt, Underwear, Midweight Cold Weather Gen III, ECWCS, Army, Desert Sand, Medium/Long

8415-01-538-8621—Shirt, Underwear, Midweight Cold Weather Gen III, ECWCS, Army, Desert Sand, Large/Regular

8415-01-538-8701—Shirt, Underwear, Midweight Cold Weather Gen III, ECWCS, Army, Desert Sand, Large/Long

8415-01-538-8705—Shirt, Underwear, Midweight Cold Weather Gen III, ECWCS, Army, Desert Sand, X-Large/Regular

8415-01-538-8711—Shirt, Underwear, Midweight Cold Weather Gen III, ECWCS, Army, Desert Sand, X-Large/Long

8415-01-546-0362—Shirt, Underwear, Midweight Cold Weather Gen III, ECWCS, Army, Desert Sand, X-Large/X-Long

8415-01-546-0369—Shirt, Underwear, Midweight Cold Weather Gen III, ECWCS, Army, Desert Sand, XX-Large/Regular

8415-01-546-0370—Shirt, Underwear, Midweight Cold Weather Gen III, ECWCS, Army, Desert Sand, XX-Large/Long

8415-01-546-0374—Shirt, Underwear, Midweight Cold Weather Gen III, ECWCS, Army, Desert Sand, XX-Large/X-Long

Authorized Source of Supply: Peckham Vocational Industries, Inc., Lansing, MI

Authorized Source of Supply: Knox County Association for Remarkable Citizens, Inc., Vincennes, IN

Authorized Source of Supply: TradeWinds Services, Inc., Merrillville, IN

Authorized Source of Supply: BESTWORK INDUSTRIES FOR THE BLIND, INC, Cherry Hill, NJ

Contracting Activity: DLA TROOP SUPPORT, PHILADELPHIA, PA

Contracting Activity: W6QK ACC-APG NATICK, NATICK, MA

NSN(s)—Product Name(s):

8415-01-576-9915—Undershirt, FREE, Army, Unisex, Foliage Green, Size XS

8415-01-576-9930—Undershirt, FREE, Army, Unisex, Foliage Green, Size S

8415-01-577-0407—Undershirt, FREE, Army, Unisex, Foliage Green, Size M

8415-01-577-0408—Undershirt, FREE, Army, Unisex, Foliage Green, Size L

8415-01-577-0409—Undershirt, FREE, Army, Unisex, Foliage Green, Size XL

8415-01-577-0410—Undershirt, FREE, Army, Unisex, Foliage Green, Size XXL

8415-01-588-0506—Undershirt, FREE, Army, Unisex, Desert Sand, Size XS

8415-01-588-0740—Undershirt, FREE, Army, Unisex, Desert Sand, Size S

8415-01-588-0746—Undershirt, FREE, Army, Unisex, Desert Sand, Size M

8415-01-588-0772—Undershirt, FREE, Army, Unisex, Desert Sand, Size L

8415-01-588-0774—Undershirt, FREE, Army, Unisex, Desert Sand, Size XL

8415-01-588-0794—Undershirt, FREE, Army, Unisex, Desert Sand, Size XXL

Mandatory Source of Supply: BESTWORK INDUSTRIES FOR THE BLIND, INC, Cherry Hill, NJ

Contracting Activity: W6QK ACC-APG NATICK, NATICK, MA

Michael R. Jurkowski,
Director, Business Operations.

[FR Doc. 2024-31243 Filed 12-27-24; 8:45 am]

BILLING CODE 6353-01-P